DEPARTMENT OF THE INTERIOR

Bureau of Land Management

[BLM_ES_FRN_MO45000171594]

Notice of Filing of Plats of Surveys; Iowa

AGENCY: Bureau of Land Management, Interior.

ACTION: Notice of official filing.

SUMMARY: The plats of surveys of the following described lands are scheduled to be officially filed in the Bureau of land Management (BLM), Eastern States Office, Falls Church, VA, 30 days from the date of this publication. The surveys, executed at the request of the identified agencies, are required for the management of these lands.

DATES: Unless there are protests of this action, the filing of the plat described in this notice will happen on June 23, 2023.

ADDRESSES: Written notices protesting any of these surveys must be sent to the State Director, BLM Eastern States, 5275 Leesburg Pike, Suite 102A, Falls Church, VA 22041.

FOR FURTHER INFORMATION CONTACT: Frank Radford, Chief Cadastral Surveyor for Eastern States; (703) 558-7759; email: fradford@blm.gov; or U.S. Postal Service: BLM-ES, 5275 Leesburg Pike, Suite 102A, Falls Church, VA 22041. Attn: Cadastral Survey. Persons who use a telecommunications device for the deaf may call the Federal Information Relay Service (FIRS) at 1-800-877-8339 to contact the above individual during normal business hours. The service is available 24 hours a day, 7 days a week, to leave a message or question with the above individual. You will receive a reply during normal business hours.

SUPPLEMENTARY INFORMATION: The dependent resurvey of a metes and bounds survey of the westerly boundary of lands owned and administered by the United States Army Corps of Engineers, Rock Island District, in Section 2, Township 79 North, Range 5 East, and Sections 11, 12, 14, 23, 24, 26 and 35, Township 80 North, Range 5 East, of the Fifth Principal Meridian in the State of Iowa; and the dependent resurvey of a metes and bounds survey of the westerly boundary of lands owned and administered by the United States Army Corps of Engineers, Rock Island District, in Section 6, Township 80 North, Range 6 East, and Sections 31 and 33, Township 81 North, Range 6 East, of the Fifth Principal Meridian in the State of Iowa. Survey requested by the United States Army Corps of Engineers, Rock Island District.

A person or party who wishes to protest a survey must file a written notice of protest within 30 calendar days from the date of this publication at the address listed in the ADDRESSES section of this notice. A notice of protest is considered filed on the date it is received by the State Director for Eastern States during regular business hours; if received after regular business hours, a notice of protest will be considered filed the next business day. Any notice of protest filed after the scheduled date of official filing will be untimely and will not be considered. A statement of reasons for the protest may be filed with the notice of protest and must be filed within 30 calendar days after the protest is filed. If a notice of protest against the survey is received prior to the date of official filing, the filing will be stayed pending consideration of the protest. A plat will not be officially filed until the next business day after all protests have been dismissed or otherwise resolved.

Before including your address, phone number, email address, or other personal identifying information in your notice of protest or statement of reasons, please be aware that your entire protest, including your personal identifying information may be made publicly available at any time. While you can ask us in your comment to withhold your personal identifying information from public review, we cannot guarantee that we will be able to do so.

A copy of the described plats will be placed in the open files, and available to the public, as a matter of information.

Authority: 43 U.S.C. chap. 3.

Frank Radford,
Chief Cadastral Surveyor for Eastern States.

[FR Doc. 2023-11051 Filed 5-23-23; 8:45 am]

BILLING CODE 4331-18-P